INTERNATIONAL TRADE COMMISSION

[Investigation No. 337-TA-1422 and Investigation No. 337-TA-1425 (Consolidated)]

Certain TOPCon Solar Cells, Modules, Panels, Components Thereof, and Products Containing Same; Notice of a Commission Determination Not To Review an Initial Determination Granting the Parties' Joint Motion To Terminate the Investigation; Terminating Investigation

AGENCY: U.S. International Trade Commission.

ACTION: Notice.

SUMMARY: Notice is hereby given that the U.S. International Trade Commission (“Commission”) has determined not to review an initial determination (“ID”) (Order No. 40) granting the parties' joint motion to terminate the investigation. The investigation is terminated in its entirety.

FOR FURTHER INFORMATION CONTACT: Benjamin S. Richards, Esq., Office of the General Counsel, U.S. International Trade Commission, 500 E Street SW, Washington, DC 20436, telephone (202) 708-5453. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted Investigation No. 337-TA-1422 (“the 1422 investigation”) on November 5, 2024, and instituted Investigation No. 337-TA-1425 (“the 1425 investigation”) on December 9, 2024, based on complaints filed by Trina Solar (U.S.), Inc. of Fremont, CA, Trina Solar US Manufacturing Module 1, LLC of Wilmer, TX, and Trina Solar Co., Ltd. of Xinbei District, China (collectively, “Trina” or “Complainants”). 89 FR 87889-90 (Nov. 5, 2024); 89 FR 97653-54 (Dec. 9, 2024). The complaints, as supplemented, collectively allege violations of section 337 of the Tariff Act of 1930, as amended, 19 U.S.C. 1337, in the importation into the United States, the sale for importation, or the sale within the United States after importation of certain TOPCon solar cells, modules, panels, components thereof, and products containing the same by reason of infringement of claims 1-11 of U.S. Patent No. 9,722,104 (“the '104 patent”) and claims 1-17 of U.S. Patent No. 10,230,009 (“the '009 patent”). The complaints further allege that a domestic industry exists. The Commission's notices of investigation collectively named as respondents: Runergy USA Inc., of Pleasanton, CA; Runergy Alabama Inc., of Huntsville, AL; Jiangsu Runergy New Energy Technology, Co., Ltd., of Yangcheng City, China; Adani Solar USA Inc., of Irving, TX; Adani Green Energy Ltd., of Ahmedabad, India; CSI Solar Co., Ltd., of Suzhou, China; Canadian Solar Inc., of West Guelph, Canada; Canadian Solar (USA) Inc., of Walnut Creek, CA; Canadian Solar Manufacturing (Thailand) Co., Ltd., of Bo Win, Thailand; Canadian Solar US Module Manufacturing Corporation, of Mesquite, TX; and Recurrent Energy Development Holdings, LLC, of Austin, TX. The Office of Unfair Import Investigations is participating in the investigations. Id.

On January 21, 2025, the Commission consolidated the 1422 investigation and the 1425 investigation. Inv. No. 337-TA-1422, Order No. 5 (Dec. 20, 2024) and Inv. No. 337-TA-1425, Order No. 4 (Dec. 20, 2024), unreviewed by Comm'n Notice (Jan. 21, 2025).

On January 31, 2025, the Commission determined not to review Order No. 8 granting Trina's unopposed motion to terminate the investigation as to Adani Green Energy Ltd. and to add Mundra Solar PV Ltd. as a respondent. See Order No. 8 (Jan. 14, 2025), unreviewed by Comm'n Notice (Jan. 31, 2025).

On February 12, 2025, the Commission determined not to review Order No. 9 amending the target date to May 20, 2026. See Order No. 9 (Jan. 15, 2025), unreviewed by Comm'n Notice (Feb. 12, 2025).

On February 13, 2025, the Commission determined not to review Order No. 7 granting Trina's unopposed motion to withdraw the complaint and terminate the investigation as to respondent Recurrent Energy Development Holdings LLC. See Order No. 8 (Jan. 14, 2025), unreviewed by Comm'n Notice (Feb. 13, 2025).

On June 17, 2025, the Commission determined not to review Order No. 15 granting Trina's unopposed motion to amend the complaint and notice of investigation to reflect a corporate name change by Trina Solar US Manufacturing Module 1, LLC to T1 G1 Dallas Solar Module (Trina) LLC. See Order No. 15 (May 23, 2025), unreviewed by Comm'n Notice (June 17, 2025).

On August 26, 2025, the Commission determined not to review Order No. 20 granting Trina's unopposed motion to terminate the investigation in part by withdrawing claim 11 of the '104 patent and claim 14 of the '009 patent. Order No. 20 (Aug. 7, 2025), unreviewed by Comm'n Notice (Aug. 26, 2025).

On December 8, 2025, the Commission determined not to review Order No. 34 extending the target date for completion of the investigation to August 18, 2026. Order No. 34 (Nov. 19, 2025), unreviewed by Comm'n Notice (Dec. 8, 2025).

On December 9, 2025, the Commission determined not to review Order No. 35 granting Trina's unopposed motion to terminate the investigation in part by withdrawing claims 2-5 and 9-10 of the '104 patent and claims 2, 3, 5, 7, 11-13, and 16 of the '009 patent. Order No. 35 (Nov. 19, 2025), unreviewed by Comm'n Notice (Dec. 9, 2025).

On January 15, 2026, the presiding administrative law judge issued the subject ID (Order No. 40) granting the parties' joint motion to terminate the investigation in its entirety. The ID found that the motion complied with Commission Rule 210.21(a)(1) (19 CFR 210.21(a)(1)) and that termination of the investigation was in the public interest.

No petitions for review of the ID were filed.

The Commission has determined not to review the subject ID. The investigation is terminated in its entirety.

The Commission vote for these determinations took place on February 10, 2026.

The authority for the Commission's determination is contained in section 337 of the Tariff Act of 1930, as amended (19 U.S.C. 1337), and in Part 210 of the Commission's Rules of Practice and Procedure (19 CFR part 210).

By order of the Commission.
Issued: February 11, 2026.
Lisa Barton,
Secretary to the Commission.

[FR Doc. 2026-02949 Filed 2-12-26; 8:45 am]

BILLING CODE 7020-02-P